DEPARTMENT OF COMMERCE

National Oceanic and Atmospheric Administration

50 CFR Part 648

[Docket No. 121009528-2729-02]

RIN 0648-XD656

Fisheries of the Northeastern United States; Summer Flounder Fishery; Quota Transfer

AGENCY: National Marine Fisheries Service (NMFS), National Oceanic and Atmospheric Administration (NOAA), Commerce.

ACTION: Temporary rule; quota transfer.

SUMMARY: NMFS announces that the State of Maine is transferring a portion of its 2014 commercial summer flounder quota to the State of Connecticut. NMFS is adjusting the quotas and announcing the revised commercial quota for each state involved.

DATES: Effective December 18, 2014, through December 31, 2014.

FOR FURTHER INFORMATION CONTACT: Reid Lichwell, Fishery Management Specialist, 978-281-9112.

SUPPLEMENTARY INFORMATION: Regulations governing the summer flounder fishery are in 50 CFR part 648, and require annual specification of a commercial quota that is apportioned among the coastal states from North Carolina through Maine. The process to set the annual commercial quota and the percent allocated to each state are described in § 648.102.

The final rule implementing Amendment 5 to the Summer Flounder, Scup, and Black Sea Bass Fishery Management Plan, which was published on December 17, 1993 (58 FR 65936), provided a mechanism for summer flounder quota to be transferred from one state to another. Two or more states, under mutual agreement and with the concurrence of the Administrator, Greater Atlantic Region, NMFS (Regional Administrator), can transfer or combine summer flounder commercial quota under § 648.102(c)(2). The Regional Administrator is required to consider the criteria in § 648.102(c)(2)(i) to evaluate requests for quota transfers or combinations.

Maine has agreed to transfer 4,900 lb (2,222.6 kg) of its 2014 commercial quota to Connecticut. The quota transfer from Maine to Connecticut was prompted by the diligent efforts of state officials in Connecticut not to exceed the commercial summer flounder quota. This quota transfer is conditioned. In the event that landings of summer flounder occur in Maine during the remaining months of 2014 resulting in an overage of Maine's summer flounder commercial quota as a result of this transfer, Connecticut has agreed to transfer 2015 summer flounder quota to Maine sufficient to cover the overage. The Regional Administrator has determined that the criteria set forth in § 648.102(c)(2)(i) have been met. The revised summer flounder commercial quotas for calendar year 2014 are: Maine, 98 lb (44.45 kg); and Connecticut, 242,106 lb (109,817.4 kg).

Classification

This action is taken under 50 CFR part 648 and is exempt from review under Executive Order 12866.

Authority: 16 U.S.C. 1801 et seq.

Dated: December 18, 2014.
Emily H. Menashes,
Acting Director, Office of Sustainable Fisheries, National Marine Fisheries Service.

[FR Doc. 2014-30032 Filed 12-18-14; 4:15 pm]

BILLING CODE 3510-22-P